DEPARTMENT OF LABOR

Employment and Training Administration

[TA-W-58,914]

Eaton Corporation, Powertrain Controls Division, Marshall, MI; Notice of Termination of Investigation

Pursuant to Section 221 of the Trade Act of 1974, as amended, an investigation was initiated on February 27, 2006 in response to a worker petition filed by a company official on behalf of workers at Eaton Corporation, Powertrain Controls Division, Marshall, Michigan.

The petitioner has requested that the petition be withdrawn. Consequently, the investigation has been terminated.

Signed at Washington, DC, this 17th day of March 2006.
Richard Church,
Certifying Officer, Division of Trade Adjustment Assistance.

[FR Doc. E6-4601 Filed 3-28-06; 8:45 am]

BILLING CODE 4510-30-P